DEPARTMENT OF AGRICULTURE

Forest Service

DEPARTMENT OF THE INTERIOR

Bureau of Land Management

[OR-930-6333 DT]

Notice of Availability (NOA) of Final Supplemental Environmental Impact Statement (FSEIS) for the Clarification of Language in the 1994 Record of Decision for the Northwest Forest Plan; National Forests and Bureau of Land Management Districts Within the Range of the Northern Spotted Owl (Proposal To Amend Wording About the Aquatic Conservation Strategy); Western Oregon and Washington, and Northwestern California

AGENCY: Forest Service, USDA; Bureau of Land Management, USDI.

ACTION: Notice of availability.

SUMMARY: The USDI Bureau of Land Management and the USDA Forest Service have prepared a FSEIS to consider an amendment of selected portions of the Aquatic Conservation Strategy (ACS) (part of the Northwest Forest Plan) to clarify guidance intended to protect and restore watersheds. The Secretaries of Agriculture and the Interior propose limited changes to language about how to demonstrate that projects follow the ACS. Projects needed to achieve Northwest Forest Plan goals have been delayed or stopped due to misapplication of certain passages in the ACS. The agencies are responding to the underlying need for increased agency success in planning and implementing projects, to the extent that the current wording has hindered the agencies' ability to follow Northwest Forest Plan principles and achieve its goals. The goals of the Northwest Forest Plan cannot be achieved without project implementation. Copies of the FSEIS may be requested from the address below or access on line at http:///www.reo.gov/acs/.

DATES: Publication of the Environmental Protection Agency (EPA) Notice of Availability and filing of the FSEIS in the Federal Register initiates a 30-day review period. Comments will be accepted at the addresses below. Individual respondents may request confidentiality. If you wish to withhold your name or address from public review or from disclosure under the Freedom of Information Act, you must state this prominently at the beginning of your written comment. Such requests will be honored to the extent allowed by law. All submissions from organizations or businesses will be made available for public inspection in their entirety. No public meetings have been scheduled.

ADDRESSES: To request copies of the document, add your name to the mailing list, or submit written comments. Contact: ACS EIS, 333 SW. First Avenue, P.O. Box 3623, Portland, Oregon 97208; FAX: (503) 326-2396 (please address fax to “ACS EIS”).

FOR FURTHER INFORMATION CONTACT: Joyce Casey; phone (503) 326-2430; E-mail: jcasey01@fs.fed.us or Leslie Frewing-Runyon; phone (503) 808-6088; E-mail: lfrewing@or.blm.gov.

SUPPLEMENTARY INFORMATION: The proposed amendment would make limited changes to language within Attachment A of the 1994 Record of Decision (ROD) for the Northwest Forest Plan. These changes would amend Forest Service and Bureau of Land Management plans throughout the Northwest Forest Plan area. The limited changes clarify that the proper scale for federal land managers to evaluate progress toward achievement of the ACS objectives is the fifth-field watershed and broader scales. The changes would also document requirements for land managers to demonstrate that projects follow the ACS. It would remove the expectation that all projects must achieve all ACS objectives, but would reinforce the role of watershed analysis in providing context for project planning. Current land allocations, standards and guidelines, and Northwest Forest Plan goals and objectives would be retained.

Three alternatives are considered in the FSEIS: No Action, the Proposed Action, and Alterative A. The No Action Alternative would not change existing language within the ACS. The Proposed Action and Alternative A would make limited changes to clarify documentation requirements. Alternative A is the Preferred Alternative. If the Preferred Alternative is approved, implementation of the range of projects envisioned under the Northwest Forest Plan would be more likely. Land managers would more successfully demonstrate that projects follow the ACS.

The Secretaries of Agriculture and the Interior propose limited changes to language about how to implement the ACS. The ACS is intended to maintain and restore the ecological health of watersheds and aquatic ecosystems within the Northwest Forest Plan area. The ACS includes language that has been interpreted to mean that decision-makers must demonstrate that a proposed project will attain all of the ACS objectives. These objectives were never intended to be site-specific standards; rather, they were intended to be achieved at the fifth-field watershed scale and broader, over the long term. Confusion related to the existing language has hindered federal land managers' ability to plan and implement projects needed to achieve Northwest Forest Plan goals.

Readers should note that the Secretary of Agriculture and the Secretary of the Interior are the responsible officials for this proposed action. Therefore, no administrative review (“appeal”) through the Forest Service will be available on the ROD under 36 CFR 217, and no administrative review (“protest”) through the Bureau of Land Management will be available on the ROD under 43 CFR 1610.5-2. Because there is no administrative review of the decision, the ROD will not be signed until 30 days after the EPA Notice of Availability for the FSEIS appears in the Federal Register.

Dated: October 22, 2003.
Charles E. Wassinger,
Associate State Director, Oregon/Washington State Office.
Michael Ash,
Deputy Regional Forester, Pacific Northwest Region.

[FR Doc. 03-27304 Filed 10-30-03; 8:45 am]

BILLING CODE 4310-33-P